FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than April 4, 2024.

A. Federal Reserve Bank of Chicago (Colette A. Fried, Assistant Vice President) 230 South LaSalle Street, Chicago, Illinois 60690-1414. Comments can also be sent electronically to Comments.applications@chi.frb.org:

1. Dana Hodgson, Beaver Island, Michigan, and Lucas Michna, Ann Arbor, Michigan; to join the Hodgson Family Control Group, a group acting in concert, to retain voting shares of Charlevoix First Corporation and thereby indirectly retain voting shares of Charlevoix State Bank, both of Charlevoix, Michigan.

B. Federal Reserve Bank of St. Louis (Holly A. Rieser, Senior Manager) P.O. Box 442, St. Louis, Missouri 63166-2034. Comments can also be sent electronically to Comments.applications@stls.frb.org:

1. Minor Child A and Minor Child B, Carla Campbell Coffey as custodian, all of Troy, Tennessee; to join the Coffey family control group, a group acting in concert, to retain voting shares of Citizens Bancorp of Hickman, Inc., and thereby indirectly retain voting shares of The Citizens Bank, both of Hickman, Kentucky.

Board of Governors of the Federal Reserve System.
Yao Chin-Chao,
Deputy Associate Secretary of the Board.

[FR Doc. 2024-05924 Filed 3-19-24; 8:45 am]

BILLING CODE P